DEPARTMENT OF ENERGY

Federal Energy Regulatory Commission

[Docket No. RP96-312-112]

Tennessee Gas Pipeline Company; Notice of Negotiated Rate Filing

October 4, 2002.

Take notice that on October 1, 2002, Tennessee Gas Pipeline Company (Tennessee), tendered for filing and approval (1) a copy of a Gas Transportation Agreement between Tennessee and Columbia Gas of Ohio (COH) pursuant to Tennessee's Rate Schedule FT-A (Service Package 8403) and (2) a copy of the June 6, 2002 Firm Transportation Negotiated Rate Letter Agreement entered into between Tennessee and COH (“Negotiated Rate Letter”). The filed Service Package 8403 and the Negotiated Rate Letter reflect a negotiated rate arrangement between Tennessee and COH to be effective November 1, 2002.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25824 Filed 10-10-02; 8:45 am]

BILLING CODE 6717-01-P